DEPARTMENT OF THE INTERIOR

Fish and Wildlife Service

[FWS-R4-ES-2011-N102; 40120-1112-0000-F2]

Final Supplemental Environmental Impact Statement and Record of Decision for Incidental Take of the Endangered Alabama Beach Mouse

AGENCY: Fish and Wildlife Service, Interior.

ACTION: Notice of availability.

SUMMARY: The Fish and Wildlife Service (Service), announces the availability of a final supplemental environmental impact statement (SEIS) which analyzes the environmental impacts associated with incidental take permits requested under the Endangered Species Act of 1973 (Act), as amended, for take of Alabama beach mouse (Peromyscus polionotus ammobates). For record of decision (ROD) availability, see DATES.

DATES: The ROD will be available no sooner than July 5, 2011.

ADDRESSES: Documents and other information submitted with the applications are available for review, subject to the requirements of the Privacy Act and Freedom of Information Act, by any party who submits a written request for a copy of such documents to either of the following offices within 30 days of the date of publication of this notice: David Dell, U.S. Fish and Wildlife Service, 1875 Century Boulevard, Suite 200, Atlanta, GA 30345; or Field Supervisor, Fish and Wildlife Service, 1208-B Main Street, Daphne, AL 36526.

FOR FURTHER INFORMATION CONTACT: Mr. David Dell, Regional HCP Coordinator (See ADDRESSES), telephone: 404/679-7313; or Ms. Shannon Holbrook, Field Office Project Manager, at the Daphne Field Office (See ADDRESSES), telephone: 251/441-5871.

SUPPLEMENTARY INFORMATION: The Final SEIS analyzes the consequences of the proposed action and alternatives to the proposed action. The incidental take permits requested by Gulf Highlands LLC and Beach Club West, involve the construction, occupancy, use, operation, and maintenance of two residential and recreational condominium development projects on the Fort Morgan Peninsula in Baldwin County, Alabama.

On April 28, 2006, we published a notice of availability for a draft EIS (71 FR 25221). A Final EIS and ROD were advertised November 29, 2006 (71 FR 69141). Based on that Final EIS and review under the Act, two incidental take permits were issued by the Service in January 2007. As a result of legal challenges to the Service's decision to issue the incidental take permits, a preliminary injunction against the two developments was imposed May 3, 2007. Reevaluation of the projects on voluntary remand led to their withdrawal by the applicants for redesign. The applicants repositioned the proposed condominium projects about 600 feet further inland to avoid habitats considered essential for Alabama beach mouse survival and continued existence. This redesigned project would result in wetland fill under jurisdiction of the Clean Water Act, so the Corps of Engineers became a cooperating agency in developing the SEIS. Revised project plans were submitted by the applicants in February 2009. A notice of availability for the Draft SEIS, incorporating the revised project plans, was published June 17, 2010 (75 FR 34476), for a 90-day public comment period. For ROD availability, see DATES.

The SEIS analyzes the preferred alternative, as well as a full range of reasonable alternatives, and the associated impacts of each. Alternative 3 (Preferred Alternative) concentrates the development on the eastern portion of the site and provides for dedication of 135 acres of Permittee-owned lands into conservation status via covenants, conditions, and restrictions attached to the property, and conditions on any incidental take permit that might be issued.

Authority: The environmental review of this project is being conducted in accordance with the requirements of the National Environmental Policy Act of 1969 as amended (42 U.S.C. 4321 et seq.) and its implementing regulations (40 CFR parts 1500 through 1508), and with other appropriate Federal laws and regulations, policies, and procedures of the Service for compliance with those regulations.

Dated: May 17, 2011.
Patrick J. Leonard,
Acting Regional Director.

[FR Doc. 2011-13761 Filed 6-2-11; 8:45 am]

BILLING CODE 4310-55-P